FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 25, 2017.

A. Federal Reserve Bank of San Francisco (Gerald C. Tsai, Director, Applications and Enforcement) 101 Market Street, San Francisco, California 94105-1579:

1. MBC Trust, Santa Barbara, California; and its Trustees Craig Zimmerman, Michelle Konoske and Joshua Rabinowitz, all of Santa Barbara, California; to acquire voting shares of Montecito Bancorp, and thereby indirectly acquire voting shares of Montecito Bank & Trust, both of Santa Barbara, California.

B. Federal Reserve Bank of Kansas City (Dennis Denney, Assistant Vice President) 1 Memorial Drive, Kansas City, Missouri 64198-0001:

1. David R. Holloway, Sublette, Kansas, individually, to acquire voting shares of Santa Fe Trail Banc Shares, Inc., and thereby indirectly acquire voting shares of Centera Bank, Sublette, Kansas.

In addition, David R. Holloway, Sublette, Kansas, MaryAnn H. Miller, and Kenneth D. Miller, Cimarron, Kansas have applied to acquire and/or retain shares of Santa Fe Trail Banc Shares, Inc., Sublette, Kansas, and for approval as members of the Holloway family group acting in concert, to control shares of Santa Fe Trail Banc Shares, Inc., Sublette, Kansas.

2. Joe D. Butcher Trust No. 1 and Joe D. Butcher as Trustee, the Donna L. Butcher Trust No. 1 and Donna L. Butcher as Trustee, and Kimberly J. Fairbank, all of Cimarron, Kansas; to retain shares of Santa Fe Trail Banc Shares, Inc., Sublette, Kansas, and for approval as members of the Butcher family group acting in concert, to control Santa Fe Trail Banc Shares, Inc., Sublette, Kansas and thereby control shares of Centera Bank, Sublette, Kansas.

Board of Governors of the Federal Reserve System, August 7, 2017.
Yao-Chin Chao,
Assistant Secretary of the Board.

[FR Doc. 2017-16909 Filed 8-10-17; 8:45 am]

BILLING CODE 6210-01-P